Title 3—

The President

Executive Order 13539 of April 21, 2010

President's Council of Advisors on Science and Technology

By the authority vested in me as President by the Constitution and the laws of the United States of America, and in order to establish an advisory council on science, technology, and innovation, it is hereby ordered as follows:

Section 1. Establishment. The President's Council of Advisors on Science and Technology (PCAST) is hereby established. The PCAST shall be composed of not more than 21 members, one of whom shall be the Assistant to the President for Science and Technology (the “Science Advisor”), and 20 of whom shall include distinguished individuals and representatives from sectors outside of the Federal Government appointed by the President. These nonfederal members shall have diverse perspectives and expertise in science, technology, and innovation. The Science Advisor shall serve as a Co-Chair of the PCAST. The President shall also designate at least one, but not more than two, of the nonfederal members to serve as a Co-Chair of the PCAST with the Science Advisor.

Sec. 2. Functions. (a) The PCAST shall advise the President, directly at its meetings with the President and also through the Science Advisor, on matters involving science, technology, and innovation policy. This advice shall include, but not be limited to, policy that affects science, technology, and innovation, as well as scientific and technical information that is needed to inform public policy relating to the economy, energy, environment, public health, national and homeland security, and other topics. The PCAST shall meet regularly and shall:

(i) respond to requests from the President or the Science Advisor for information, analysis, evaluation, or advice;

(ii) solicit information and ideas from the broad range of stakeholders, including but not limited to the research community, the private sector, universities, national laboratories, State and local governments, foundations, and nonprofit organizations;

(iii) serve as the advisory committee identified in subsections 101(b) and 103(b) of the High Performance Computing Act of 1991 (Public Law 102-194), as amended (15 U.S.C. 5511(b) and 5513(b)). In performing the functions of such advisory committee, the PCAST shall be known as the President's Innovation and Technology Advisory Committee; and

(iv) serve as the advisory panel identified in section 4 of the 21st Century Nanotechnology Research and Development Act (15 U.S.C. 7503) (21st Century Act). In performing the functions of such advisory committee, the PCAST shall be known as the National Nanotechnology Advisory Panel. Nothing in this order shall be construed to require the National Nanotechnology Advisory Panel to comply with any requirement from which it is exempted by section 4(f) of the 21st Century Act.

(b) The PCAST shall provide advice from the nonfederal sector to the National Science and Technology Council (NSTC) in response to requests from the NSTC.

Sec. 3. Administration. (a) The heads of executive departments and agencies shall, to the extent permitted by law, provide the PCAST with information concerning scientific and technological matters when requested by the PCAST Co-Chairs and as required for the purpose of carrying out the PCAST's functions.

(b) In consultation with the Science Advisor, the PCAST is authorized to create standing subcommittees and ad hoc groups, including, but not limited to, technical advisory groups to assist the PCAST and provide preliminary information directly to the PCAST.

(c) So that the PCAST may provide advice and analysis regarding classified matters, the Science Advisor may request that members of the PCAST, its standing subcommittees, or ad hoc groups who do not hold a current clearance for access to classified information, receive security clearance and access determinations pursuant to Executive Order 12968 of August 2, 1995, as amended, or any successor order.

(d) The Office of Science and Technology Policy (OSTP) shall provide such funding and administrative and technical support as the PCAST may require.

(e) Members of the PCAST shall serve without any compensation for their work on the PCAST, but may receive travel expenses, including per diem in lieu of subsistence, as authorized by law for persons serving intermittently in the government service (5 U.S.C. 5701-5707).

Sec. 4. Termination. The PCAST shall terminate 2 years from the date of this order unless extended by the President.

Sec. 5. General Provisions. (a) Insofar as the Federal Advisory Committee Act, as amended (5 U.S.C. App.) (FACA) may apply to the PCAST, any functions of the President under the FACA, except that of reporting to the Congress, shall be performed by the Director of the OSTP in accordance with the guidelines and procedures established by the Administrator of General Services.

(b) Nothing in this order shall be construed to impair or otherwise affect:

(i) authority granted by law to a department or agency, or the head thereof; or

(ii) functions of the Director of the Office of Management and Budget relating to budgetary, administrative, or legislative proposals.

(c) This order shall be implemented consistent with applicable law and subject to the availability of appropriations.

(d) This order is not intended to, and does not, create any right or benefit, substantive or procedural, enforceable at law or in equity by any party against the United States, its departments, agencies, or entities, its officers, employees, or agents, or any other person.

Sec. 6. Revocation. Executive Order 13226 of September 30, 2001, as amended, is hereby revoked.

THE WHITE HOUSE,

April 21, 2010.

[FR Doc. 2010-9796

Filed 4-26-10; 8:45 am]

Billing code 3195-W0-P